NUCLEAR REGULATORY COMMISSION

Sunshine Act; Notice of Meeting

Agency Holding the Meeting: Nuclear Regulatory Commission.

Date: Weeks of August 25, September 1, 8, 15, 22, 29, 2003.

Place: Commissioners' Conference Room, 11555 Rockville Pike, Rockville, Maryland.

Status: Public and Closed.

Matters to be Considered:

Week of August 25, 2003

Monday, August 25, 2003

9:30 a.m. Discussion of Investigatory and Enforcement Issues (Closed—Ex. 7 & 5).

Thursday, August 28, 2003.

10:45 a.m. Affirmation Session (Public Meeting) (If needed).

2 p.m. Discussion of Intragovernmental Issues (Closed—Ex. 1 & 9).

Week of September 1, 2003—Tentative

There are no meetings scheduled for the Week of September 1, 2003.

Week of September 8, 2003—Tentative

Wednesday, September 10, 2003

1 p.m. Meeting with Organization of Agreement States (OAS) and Conference of Radiation Control Program Directors (CRCPD) (Public Meeting) (Contact: John Zabko, (301) 415-2308).

This meeting will be Webcast live at the Web address— http://www.nrc.gov.

3 p.m. Discussion of Security Issues (Closed—Ex. 1).

Thursday, September 11, 2003

1:30 p.m. Discussion of Security Issues (Closed—Ex. 1).

Week of September 15, 2003—Tentative

There are no meetings scheduled for the Week of September 15, 2003.

Week of September 22, 2003—Tentative

Wednesday, September 24, 2003

9 a.m. Briefing on Emergency Preparedness Program Status (Public Meeting) (Contact: Eric Weiss, 301-415-3264).

This meeting will be Webcast live at the Web address— http://www.nrc.gov.

Week of September 29, 2003—Tentative

There are no meetings scheduled for the Week of September 29, 2003.

*The schedule for Commission meetings is subject to change on short notice. To verify the status of meetings call (recording)—(301) 415-1292.

CONTACT PERSON FOR MORE INFORMATION: David Louis Gamberoni (301) 415-1651.

* * * * *

SUPPLEMENTARY INFORMATION: By a vote of 3-0 on August 14, the Commission determined pursuant to U.S.C. 552b(e) and 9.107(a) of the Commission's rules that “Affirmation of (1) Final Rule: Geological and Seismological Characteristics for the Siting and Design of Dry Cask Independent Spent Fuel Storage Installations and Monitored Retrievable Storage Installations—10 CFR part 72 and (2) Private Fuel Storage (Independent Spent Fuel Storage Installation), Docket No. 72-22-ISFSI, LBP-03-08 (May 22, 2003)” be held on August 15, and on less than one week's notice to the public.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: August 21, 2003.
D.L. Gamberoni
Technical Coordinator, Office of the Secretary.

[FR Doc. 03-21880 Filed 8-22-03; 11:20 am]

BILLING CODE 7590-01-M